ENVIRONMENTAL PROTECTION AGENCY

40 CFR Part 81

Designation of Areas for Air Quality Planning Purposes

CFR Correction

This rule is being published by the Office of the Federal Register to correct an editorial or technical error that appeared in the most recent annual revision of the Code of Federal Regulations.

In title 40 of the Code of Federal Regulations, Part 81, revised as of July 1, 2023, in § 81.350, in the table titled “Wisconsin—2010 Sulfur Dioxide NAAQS [Primary]”, the entry for “Outagamie County (part)” is removed.

[FR Doc. 2024-07673 Filed 4-9-24; 8:45 am]

BILLING CODE 0099-10-P